DEPARTMENT OF THE INTERIOR

Office of Surface Mining Reclamation and Enforcement

[S1D1S SS08011000 SX064A000 201S180110; S2D2S SS08011000 SX064A000 20XS501520]

Grant Notification for Fiscal Year 2020

AGENCY: Office of Surface Mining Reclamation and Enforcement, Interior.

ACTION: Notice.

SUMMARY: We, the Office of Surface Mining Reclamation and Enforcement (OSMRE), are notifying the public that we intend to grant funds to eligible applicants for purposes authorized under the Surface Mining Control and Reclamation Act of 1977 (SMCRA) Title IV Abandoned Mine Land (AML) Reclamation Program and Title V Regulatory Program. We will award these grants during fiscal year 2020.

DATES: Single points of contact or other interested State, Tribal, or local entities may submit written comments regarding AML Reclamation Program and Regulatory Program funding until February 26, 2020.

ADDRESSES: You may submit comments by any of the following methods:

• Electronic mail: Send your comments to yrichardson@osmre.gov.

• Mail, hand-delivery, or courier: Send your comments to Office of Surface Mining Reclamation and Enforcement, Attn: Grants Notice, Room 4551, 1849 C Street NW, Washington, DC 20240.

FOR FURTHER INFORMATION CONTACT: Yetunde Richardson, Office of Surface Mining Reclamation and Enforcement, 1849 C Street NW, MS 4551, Washington, DC 20240; Telephone (202) 208-2766.

SUPPLEMENTARY INFORMATION:

Grant Notification

We are notifying the public that we intend to grant funds to eligible applicants for purposes authorized under SMCRA's Title IV AML Reclamation Program. Additionally, we are notifying the public that we intend to grant funds to eligible applicants under SMCRA's Title V Regulatory Program for regulating coal mining within their jurisdictional borders. We will award these grants during fiscal year 2020. Eligible applicants are those States and Tribes with an AML reclamation program and/or a regulatory program that we approved under SMCRA, as amended, 30 U.S.C. 1201 et seq., as well as States and Tribes that are seeking to develop a regulatory program as provided in 30 U.S.C. 1295. Consistent with Executive Order (E.O.) 12372, we are providing State and Tribal officials the opportunity to review and comment on these proposed Federal financial assistance activities. Of the eligible applicants, nineteen States or Tribes do not have single points of contact; therefore, we are publishing this notice as an alternate means of notification.

Description of the AML Reclamation Program

SMCRA established the Abandoned Mine Reclamation Fund to receive the AML fees that, along with funds from other sources, are used to finance reclamation of AML coal mine sites. Title IV of SMCRA authorizes OSMRE to provide grants to eligible States and Tribes that are funded from permanent (mandatory) appropriations. Recipients use these funds: to reclaim the highest priority AML coal mine sites that were left abandoned prior to the enactment of SMCRA in 1977; to reclaim eligible non-coal sites; for projects that address the impacts of mineral development; and for non-reclamation projects.

Description of the Regulatory Program

Title V of SMCRA authorizes OSMRE to provide grants to States and Tribes to develop, administer, and enforce State and Tribal regulatory programs that address, among other things, the disturbances from coal mining operations. Additionally, upon our approval of a State or Tribal regulatory program, Title V authorizes a State to assume regulatory primacy and act as the regulatory authority within the State or Tribe, and to administer and enforce its approved SMCRA regulatory program. Our regulations at Title 30 of the Code of Federal Regulations, Chapter VII, implement these provisions of SMCRA.

Dated: November 13, 2019.
Lanny E. Erdos,
Principal Deputy Director, Exercising the Authority of the Director, Office of Surface Mining Reclamation and Enforcement.

[FR Doc. 2020-01325 Filed 1-24-20; 8:45 am]

BILLING CODE 4310-05-P